DEPARTMENT OF HOMELAND SECURITY

[Docket ID FEMA-2014-0022]

Technical Mapping Advisory Council

AGENCY: Federal Emergency Management Agency, DHS.

ACTION: Committee Management; Notice of Federal Advisory Committee Meeting.

SUMMARY: The Federal Emergency Management Agency (FEMA) Technical Mapping Advisory Council (TMAC) will meet in person on Tuesday, September 25, 2018, and Wednesday, September 26, 2018, in Reston, Virginia. The meeting will be open to the public.

DATES: The TMAC will meet on Tuesday, September 25, 2018, from 8:00 a.m.-5:30 p.m. Eastern Daylight Time (EDT), and Wednesday, September 26, 2018, from 8:00 a.m.-5:30 p.m. EDT. Please note that the meeting will close early if the TMAC has completed its business.

ADDRESSES: The meeting will be held at the United States Geological Survey (USGS) Headquarters at 12201 Sunrise Valley Drive, Reston, VA 20192. Members of the public who wish to attend the meeting must register in advance by sending an email to FEMA-TMAC@fema.dhs.gov (Attention: Michael Nakagaki) by 11:00 p.m. EDT on Wednesday, September 19, 2018. Members of the public must follow signs for the Visitor's Entrance on the U.S. Geological Survey Drive entrance of the USGS; once you pull into the Visitor's Entrance, facility security will direct you to parking and where to check in at the front desk of the visitor's entrance at the USGS. Photo identification is required.

For information on facilities or services for individuals with disabilities or to request special assistance at the meeting, contact the person listed below in the FOR FURTHER INFORMATION CONTACT as soon as possible.

To facilitate public participation, members of the public are invited to provide written comments on the issues to be considered by the TMAC, as listed in the SUPPLEMENTARY INFORMATION section below. Associated meeting materials will be available at www.fema.gov/TMAC for review by Wednesday, September 19, 2018. Written comments to be considered by the committee at the time of the meeting must be submitted and received by Friday, September 21, 2018, identified by Docket ID FEMA-2014-0022, and submitted by one of the following methods:

• Federal eRulemaking Portal: http://www.regulations.gov. Follow the instructions for submitting comments.

• Email: Address the email TO: FEMA-RULES@fema.dhs.gov and CC: FEMA-TMAC@fema.dhs.gov. Include Docket ID FEMA-2014-0022 in the subject line of the message. Include name and contact information in the body of the email.

• Mail: Regulatory Affairs Division, Office of Chief Counsel, FEMA, 500 C Street SW, Room 8NE, Washington, DC 20472-3100.

Instructions: All submissions received must include the words “Federal Emergency Management Agency” and the docket number for this action. Comments received will be posted without alteration at http://www.regulations.gov, including any personal information provided.

Docket: For docket access to read background documents or comments received by the TMAC, go to http://www.regulations.gov and search for the Docket ID FEMA-2014-0022.

A public comment period will be held on Tuesday, September 25, 2018, from 4:00 p.m. to 4:30 p.m. EDT and again on Wednesday, September 26, 2018, from 11:30 a.m. to 12:00 p.m. EDT. Speakers are requested to limit their comments to no more than three minutes. The public comment period will not exceed 30 minutes. Please note that the public comment period may end before the time indicated, following the last call for comments. Contact the individual listed below to register as a speaker by close of business on Friday, September 21, 2018.

FOR FURTHER INFORMATION CONTACT: Michael Nakagaki, Designated Federal Officer for the TMAC, FEMA, 400 C Street SW, Washington, DC 20024, telephone (202) 212-2148, and email michael.nakagaki@fema.dhs.gov. The TMAC website is: http://www.fema.gov/TMAC.

SUPPLEMENTARY INFORMATION: Notice of this meeting is given under the Federal Advisory Committee Act, 5 U.S.C. Appendix.

In accordance with the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5)(a) methods for improving interagency and intergovernmental coordination on flood mapping and flood risk determination, and (b) a funding strategy to leverage and coordinate budgets and expenditures across Federal agencies. Furthermore, the TMAC is required to submit an annual report to the FEMA Administrator that contains: (1) A description of the activities of the Council; (2) an evaluation of the status and performance of flood insurance rate maps and mapping activities to revise and update Flood Insurance Rate Maps; and (3) a summary of recommendations made by the Council to the FEMA Administrator.

Agenda: During the two-day meeting, TMAC members will discuss and conduct a review of the final draft TMAC 2018 Annual Report. The TMAC will also receive public input on the report recommendations and content; the recommendations and summary of content will be posted to the FEMA TMAC website at http://www.fema.gov/TMAC prior to the meeting to provide the public an opportunity to review the materials. A public comment period will be held on Tuesday, September 25, 2018, from 4:00 p.m. to 4:30 p.m. EDT and again on Wednesday, September 26, 2018, from 11:30 a.m. to 12:00 p.m. EDT and will occur prior to any vote. The full agenda and related meeting materials will be posted by Friday, September 21, 2018, at http://www.fema.gov/TMAC.

David I. Maurstad,
Deputy Associate Administrator for Insurance and Mitigation, Federal Emergency Management Agency.

[FR Doc. 2018-17813 Filed 8-16-18; 8:45 am]

BILLING CODE 9110-12-P